ENVIRONMENTAL PROTECTION AGENCY

[ER-FRL-9058-4]

Environmental Impact Statements; Notice of Availability

Responsible Agency: Office of Federal Activities, General Information 202-564-5632 or https://www.epa.gov/nepa.

Weekly receipt of Environmental Impact Statements (EIS)

Filed September 3, 2021 10 a.m. EST Through September 13, 2021 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210137, Fourth Final Supplemental, FHWA, VT, Champlain Parkway/Southern Connector Burlington Vermont, Review Period Ends: 10/18/2021, Contact: Patrick Kirby 802-828-4568.

EIS No. 20210138, Draft, USCG, PRO, Offshore Patrol Cutter Acquisition Program, Comment Period Ends: 11/01/2021, Contact: Andrew Haley 202-372-1821.

EIS No. 20210139, Final, USMC, USAF, AZ, Extension of the Barry M. Goldwater Range Land Withdrawal and Proposed Gila Bend Addition Land Withdrawal, Review Period Ends: 10/18/2021, Contact: Jon Haliscak 210-395-0615.

EIS No. 20210140, Draft, BLM, UT, Pine Valley Water Supply Project, Comment Period Ends: 11/01/2021, Contact: Brooklynn Cox 435-865-3073.

Dated: September 13, 2021.
Candi Schaedle,
Acting Director, NEPA Compliance Division, Office of Federal Activities.

[FR Doc. 2021-20119 Filed 9-16-21; 8:45 am]

BILLING CODE 6560-50-P